DEPARTMENT OF LABOR

Employment and Training Administration

Announcement Regarding States Triggering “On” and “Off” in the Emergency Unemployment Compensation 2008 (EUC08) Program

AGENCY: Employment and Training Administration, Labor.

ACTION: Notice.

SUMMARY: Announcement Regarding States Triggering “on” and “off” in the Emergency Unemployment Compensation 2008 (EUC08) Program.

The U.S. Department of Labor (Department) produces trigger notices indicating which states qualify for EUC08 benefits, and provides the beginning and ending dates of payable periods for each qualifying state. The trigger notices covering state eligibility for this program can be found at: http://ows.doleta.gov/unemploy/claims_arch.asp.

The following changes have occurred since the publication of the last notice regarding states' EUC08 trigger status:

• With the week ending September 22, 2012, Utah had served a full 13 week “off” period in Tier 2 of the EUC08 program. Given that the trigger rate for Utah has been at the 6.0 percent trigger rate threshold, this state met the criteria to resume a payable period in Tier 2 of the EUC08 program. This payable period started with the week beginning September 23, 2012. For claimants establishing new eligibility in Tier 2, the maximum potential entitlement in Tier 2 is the lesser of 54 percent of the maximum regular Unemployment Compensation (UC) entitlement or 14 times the regular UC weekly benefit amount.

• With the week ending September 22, 2012, West Virginia and Wisconsin had both served a full 13 week “off” period in Tier 3 of the EUC08 program. Given that the trigger rate for these states had been at or above the 7.0 percent trigger rate threshold, these states met the criteria to resume a payable period in Tier 3 of the EUC08 program. The payable period for these states started with the week beginning September 23, 2012. For claimants establishing new eligibility in Tier 3, the maximum potential entitlement in Tier 3 is the lesser of 35 percent of the maximum regular UC entitlement or 9 times the regular UC weekly benefit amount.

• With the release of national unemployment data by the Bureau of Labor Statistics on September 21, 2012, the estimated three month average, seasonally adjusted total unemployment rate for Maryland met the 7.0 percent threshold necessary to trigger “on” in Tier 3 of the EUC08 program. For claimants establishing new eligibility in Tier 3, the maximum potential entitlement is the lesser of 35 percent of the maximum regular UC entitlement or 9 times the regular UC weekly benefit amount. The week beginning October 7, 2012, will be the first week in which EUC08 claimants in Maryland who have exhausted Tier 2, and are otherwise eligible, can establish Tier 3 eligibility.

• With the release of national unemployment data by the Bureau of Labor Statistics on September 21, 2012, the estimated three month average, seasonally adjusted total unemployment rate for Michigan met the 9.0 percent threshold necessary to trigger “on” in Tier 4 of the EUC08 program. For claimants establishing new eligibility in Tier 4, the maximum potential entitlement in Tier 4 is the lesser of 24 percent of the maximum regular UC entitlement or 6 times the regular UC weekly benefit amount. The week beginning October 7, 2012, will be the first week in which EUC08 claimants in Michigan who have exhausted Tier 3, and are otherwise eligible, can establish Tier 4 eligibility.

• With the week ending October 6, 2012, Texas will have served a full 13 week “off” period in Tier 3 of the EUC08 program. Given that the trigger rate for Texas is currently at or above the 7.0 percent trigger rate threshold, and no more unemployment rates will be released before October 19, 2012, Texas will meet the criteria to resume a payable period in Tier 3 of the EUC08 program. This payable period will start with the week beginning October 7, 2012. For claimants establishing new eligibility in Tier 3, the maximum potential entitlement is the lesser of 35 percent of the maximum regular UC entitlement or 9 times the regular UC weekly benefit amount.

• With the week ending October 6, 2012, Georgia and Mississippi will have served a full 13 week “off” period in Tier 4 of the EUC08 program. Given that the trigger rate for these states is currently at or above the 9.0 percent trigger rate threshold, and no more unemployment rates will be released before October 19, 2012, Georgia and Mississippi will meet the criteria to resume a payable period in Tier 4 of the EUC08 program. The payable period will start with the week beginning October 7, 2012. For claimants establishing new eligibility in Tier 4, the maximum potential entitlement in Tier 4 is the lesser of 24 percent of the maximum regular UC entitlement or 6 times the regular UC weekly benefit amount.

• Based on data released by the Bureau of Labor Statistics on September 21, 2012, the three month average, seasonally adjusted total unemployment rate for the District of Columbia fell below the 9.0 percent trigger rate threshold to remain “on” in Tier 4 of the EUC08 program. As a result, entitlement for claimants in the District of Columbia in the EUC08 program will decrease from a maximum possible duration of 47 weeks to a maximum possible duration of 37 weeks. The week ending October 13, 2012, will be the last week in which EUC claimants in the District of Columbia can exhaust Tier 3, and establish Tier 4 eligibility. Under the phase-out provisions, claimants can receive any remaining entitlement they have in Tier 4 after October 13, 2012.

Information for Claimants

The duration of benefits payable in the EUC08 program, and the terms and conditions under which they are payable, are governed by Public Laws 110-252, 110-449, 111-5, 111-92, 111-118, 111-144, 111-157, 111-205, 111-312, 112-96, and the operating instructions issued to the states by the Department.

In the case of a state beginning or concluding a payable period in EUC08, the State Workforce Agency will furnish a written notice of any change in potential entitlement to each individual who could establish, or had established, eligibility for benefits (20 CFR 615.13 (c)(1) and (c)(4)). Persons who believe they may be entitled to benefits under the EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 17th day of October, 2012.
Jane Oates,
Assistant Secretary, Employment and Training Administration.

[FR Doc. 2012-26586 Filed 10-29-12; 8:45 am]

BILLING CODE 4510-FW-P